DEPARTMENT OF COMMERCE

National Oceanic and Atmospheric Administration

Agency Information Collection Activities; Submission to the Office of Management and Budget (OMB) for Review and Approval; Comment Request; West Coast Region Groundfish Trawl Logbook

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 30, 2025.

ADDRESSES: Interested persons are invited to submit written comments to Adrienne Thomas, NOAA PRA Officer, at NOAA.PRA@noaa.gov. Please reference OMB Control Number 0648-0782 in the subject line of your comments. Do not submit Confidential Business Information or otherwise sensitive or protected information.

FOR FURTHER INFORMATION CONTACT: Requests for additional information or specific questions related to collection activities should be directed to Keeley Kent, National Marine Fisheries Service, (206) 526-4655 or Keeley.Kent@noaa.gov.

SUPPLEMENTARY INFORMATION:

I. Abstract

This request is for a revision and extension of a current information collection.

The success of fisheries management programs depends significantly on the availability of fishery data. As part of this fishery data, the National Marine Fisheries Service (NMFS) requires groundfish fishermen in the trawl and non-trawl fisheries to complete a logbook (see 50 CFR 660.13). The logbook used is a standard format developed by the Pacific Fishery Management Council (Council) to collect information necessary to effectively manage the fishery on a coast-wide basis. The logbook collects haul or set-level effort data including time, location, gear type, target strategy, and estimated pounds of fish caught per set. Each logbook entry represents a single fishing trip.

NMFS contracts with the Pacific States Marine Fisheries Commission (PSMFC) to distribute and collect the logbook data. These data are used regularly by NMFS, the Council, the West Coast Groundfish Observer Program, NMFS Office of Law Enforcement, and the Coast Guard for fisheries management and enforcement.

Previously, the trawl logbook and non-trawl logbook information collections were separate (NMFS temp collection 0648-0804); this revision would merge the non-trawl logbook information collection into the trawl logbook information collection.

II. Method of Collection

The non-trawl logbook is a fully electronic collection utilizing an application operated by Pacific States Marine Fisheries Commission. The trawl logbook has both paper and electronic options, both administered by Pacific States Marine Fisheries Commission.

III. Data

OMB Control Number: 0648-0782.

Form Number(s): None.

Type of Review: Regular Submission (revision and extension of a currently approved collection).

Affected Public: Business or other for-profit organizations.

Estimated Number of Respondents: 600.

Estimated Time per Response: 1 hour.

Estimated Total Annual Burden Hours: 7,000 hours.

Estimated Total Annual Cost to Public: $0.

Respondent's Obligation: Mandatory.

Legal Authority: The regulations at § 660.13(a) specify reporting requirements for trawl and non-trawl logbooks.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-05485 Filed 3-28-25; 8:45 am]

BILLING CODE 3510-22-P